DEPARTMENT OF VETERANS AFFAIRS

Privacy Act of 1974; System of Records

AGENCY: Department of Veterans Affairs (VA).

ACTION: Notice of modified system of records.

SUMMARY: In accordance with the Privacy Act of 1974, the Department of Veterans Affairs (VA) is modifying the systems of records listed in this notice to incorporate one routine use related to the disclosure of records to the U.S. Department of the Treasury pursuant to the Office of Management and Budget's Memorandum 25-32. The new routine use permits disclosures of records to the U.S. Department of the Treasury when the information is relevant to review payment and award eligibility through the Do Not Pay Working System for the purposes of identifying, preventing, or recouping improper payments to an applicant for, or recipient of, Federal funds. For full descriptions of the systems of records, please see the chart below for a list of the System of Records Notices (SORNs) and their corresponding Federal Register citations.

DATES: Comments on these modified systems of records must be received no later than 30 days after the notice's date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments received will be available at regulations.gov for public viewing, inspection or copies.

FOR FURTHER INFORMATION CONTACT: Rita Grewal, Acting Director, VA Privacy Service, Rita.Grewal@va.gov, 202-870-1284.

SUPPLEMENTARY INFORMATION: On August 20, 2025, the Office of Management and Budget published Memorandum 25-32, Preventing Improper Payments and Protecting Privacy Through Do Not Pay, which established the routine use for the disclosure of information relevant to reviewing payment and award eligibility through the Do Not Pay Working System for the purposes of identifying, preventing, or recouping improper payments to an applicant for, or recipient of, Federal funds. The Department of Veterans Affairs is now modifying all the systems of records identified in this notice to include the routine use set forth in OMB Memorandum M-25-32.

Signing Authority

The Senior Agency Official for Privacy, or designee, approved this document and authorized the undersigned to sign and submit the document to the Office of the Federal Register for publication electronically as an official document of the Department of Veterans Affairs. Merissa Larson, Acting Deputy Chief Information Officer, Compliance, Risk, and Remediation, Office of Information and Technology, and Chief Privacy Officer, Department of Veterans Affairs approved this document on September 19, 2025, for publication.

Dated: January 12, 2026.
Saurav Devkota,
Government Information Specialist, VA Privacy Service, Office of Compliance, Risk and Remediation, Office of Information and Technology, Department of Veterans Affairs.

SYSTEM NAME AND NUMBER:

The systems of records to be modified by including the routine use described below in this notice are set forth below. Any history prior to the last publication in the Federal Register is omitted for clarity.

SORN No. | SORN name | Federal Register citation
54VA10 | Veterans and Beneficiaries Purchased Care | 90 FR 44473
36VA29 | Veterans and Uniformed Services Personnel Programs of U.S. Government Life Insurance—VA | 83 FR 44407
37VA27 | Beneficiary Fiduciary Field System (BFFS)—VA | 79 FR 41744
23VA10 | Non-VA Care (Fee) Records—VA | 90 FR 39485
186VA10D | Community Care (CC) Provider Profile Management System (PPMS) | 86 FR 6979
17VA26 | Loan Guaranty Fee Personnel and Program Participant Records—VA | 88 FR 44462
13VA047 | Individuals Submitting Invoice Vouchers for Payment and Accounting Transactional Data—VA | 88 FR 60269
138VA005Q | Veterans Affairs/Department of Defense Identity Repository (VADIR)—VA | 89 FR 99335
89VA10 | Income Verification Records—VA | 88 FR 17639
58VA/21/22/28 | Compensation, Pension, Education, and Vocational Rehabilitation and Employment Records—VA | 90 FR 44464
73VA10 | Health Professional Scholarship Program, and Visual Impairment and Orientation and Mobility | 88 FR 38131
44VA01 | Veterans Appellate Records System—VA | 88 FR 44185
208VA0478C | Payroll Processing and Reporting—VA | 88 FR 63684
55VA26 | Loan Guaranty Home Condominium and Manufactured Home Loan Applicants Records, Specially Adapted Housing Applicant Records and Vendee Loan Applicant Records—VA | 88 FR 63686
194VA189 | PayVA (QCR) Debt Management | 85 FR 84123
168VA005 | Health Information Exchange—VA | 89 FR 83949
131VA047 | Corporate Travel and Charge Cards—VA | 88 FR 63674
88VA244 | Centralized Accounts Receivable System/Centralized Accounts Receivable On-Line System (CAR/CAROLS, combined system referred to as CAO) | 83 FR 40140
165VA05CCSP | VA Child Care Subsidy Program Records—VA | 89 FR 83949
114VA10 | The Revenue Program—Billing and Collections Records—VA | 86 FR 6996
197VA10 | Caregiver Support Program—Caregiver Record Management Application (CARMA) | 89 FR 6568

SECURITY CLASSIFICATION:

Unclassified.

SYSTEM LOCATION:

The applicable individual or office is identified in each notice.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in the systems identified above may be disclosed outside VA as a routine use pursuant to 5 U.S.C. 552(a)(b)(3) as follows:

To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

HISTORY:

See System Name and Number above.

[FR Doc. 2026-00682 Filed 1-14-26; 8:45 am]

BILLING CODE 8320-01-P